SOCIAL SECURITY ADMINISTRATION

Work Incentives Assistance Program: Grants to State Protection and Advocacy Systems To Provide Protection and Advocacy Services to Social Security Beneficiaries With Disabilities; Awards Notification

AGENCY: Social Security Administration.

ACTION: Notice.

SUMMARY: The Social Security Administration announces the awarding of Work Incentives Assistance Program Grants to State Protection and Advocacy Systems for the period December 1, 2004 through November 30, 2005. The purpose of this program is to provide individuals with disabilities who receive Social Security Disability Insurance or Supplemental Security Income benefits, information and advice about obtaining vocational rehabilitation and employment services. The purpose is also to provide advocacy or other services that beneficiaries with a disability may need to secure, maintain, or regain gainful employment.

The following grants are being awarded for Fiscal Year 2005:

State or Territory | Award
Alabama | $107,243
Alaska | 100,000
Arizona | 100,000
Arkansas | 100,000
California | 439,035
Colorado | 100,000
Connecticut | 100,000
Delaware | 100,000
Florida | 245,288
Georgia | 130,301
Hawaii | 100,000
Idaho | 100,000
Illinois | 167,305
Indiana | 100,000
Iowa | 100,000
Kansas | 100,000
Kentucky | 115,761
Louisiana | 100,000
Maine | 100,000
Maryland | 100,000
Massachusetts | 104,768
Michigan | 163,605
Minnesota | 100,000
Mississippi | 100,000
Missouri | 100,000
Montana | 100,000
Nebraska | 100,000
Nevada | 100,000
New Hampshire | 100,000
New Jersey | 100,000
New Mexico | 100,000
New York | 319,006
North Carolina | 146,570
North Dakota | 100,000
Ohio | 177,910
Oklahoma | 100,000
Oregon | 100,000
Pennsylvania | 203,256
Rhode Island | 100,000
South Carolina | 100,000
South Dakota | 100,000
Tennessee | 117,012
Texas | 237,941
Utah | 100,000
Vermont | 100,000
Virginia | 100,000
Washington | 100,000
West Virginia | 100,000
Wisconsin | 100,000
Wyoming | 100,000
District of Columbia | 100,000
Puerto Rico | 100,000
American Samoa | 50,000
Guam | 50,000
Northern Mariana Islands | 50,000
Virgin Islands | 50,000
Native American Program | 50,000

FOR FURTHER INFORMATION CONTACT: Jennifer DeBoy, 410-965-8658.

SUPPLEMENTARY INFORMATION: The Request for Applications was originally published as Program Announcement No. SSA-OESP-04-1. The authority for these grants is found in section 1150 of the Social Security Act, as added by section 122 of Public Law 106-170 (the Ticket to Work and Work Incentives Improvement Act of 1999), and amended by sections 404 and 477 of Public Law 108-203. This section, State Grants for Work Incentives Assistance to Disabled Beneficiaries, authorized the Commissioner to make payments only to the designated Protection and Advocacy Systems established under title I of the Developmental Disabilities Assistance and Bill of Rights Act (subsequently replaced by title I of the Developmental Disabilities Assistance and Bill of Rights Act of 2000, Public Law 106-402). Formula-based award amounts are derived from the Social Security Administration's disability population statistics for each State and Territory.

Dated: December 21, 2004.
Martin H. Gerry,
Deputy Commissioner for Disability and Income Security Programs.

[FR Doc. 04-28471 Filed 12-28-04; 8:45 am]

BILLING CODE 4191-02-P